SECURITIES AND EXCHANGE COMMISSION

[Release No. 34-57011; File No. SR-Amex-2007-25]

Self-Regulatory Organizations; American Stock Exchange LLC; Notice of Filing of a Proposed Rule Change, as Modified by Amendment No. 1, to Allow Registered Options Traders to Quote Remotely From Off the Amex's Trading Floor on a Limited Basis

December 20, 2007.

Pursuant to Section 19(b)(1) of the Securities Exchange Act of 1934 (“Act”),¹ and Rule 19b-4 thereunder,² notice is hereby given that on February 27, 2007, the American Stock Exchange LLC (“Amex” or “Exchange”) filed with the Securities and Exchange Commission (“Commission”) the proposed rule change as described in Items I, II, and III below, which Items have been prepared substantially by the Amex. The Amex filed Amendment No. 1 to the proposal on December 13, 2007.³ The Commission is publishing this notice to solicit comments on the proposed rule change, as modified by Amendment No. 1, from interested persons.

¹ 15 U.S.C. 78s(b)(1).

² 17 CFR 240.19b-4.

³ Amendment No. 1 supersedes and replaces the original filing in its entirety.

I. Self-Regulatory Organization's Statement of the Terms of Substance of the Proposed Rule Change

The Amex proposes to amend its rules to allow Registered Options Traders (“ROTs”) to quote remotely from off the Amex's trading floor on a limited basis. The text of the proposed rule change is available on the Amex's Web site at http://www.amex.com, at the Amex's Office of the Secretary, and at the Commission's Public Reference Room.

II. Self-Regulatory Organization's Statement of the Purpose of, and Statutory Basis for, the Proposed Rule Change

In its filing with the Commission, the Exchange included statements concerning the purpose of, and basis for, the proposed rule change and discussed any comments it received on the proposed rule change. The text of these statements may be examined at the places specified in Item IV below. The Exchange has prepared summaries, set forth in Sections A, B, and C below, of the most significant aspects of such statements.

A. Self-Regulatory Organization's Statement of the Purpose of, and the Statutory Basis for, the Proposed Rule Change

1. Purpose

The Amex proposes to amend Amex Rule 958—ANTE, “Options Transactions of Registered Options Traders and Supplemental Registered Options Traders and Remote Registered Options Traders,” to allow a ROT to submit electronic quotations and orders from a location off the Amex's trading floor on a limited basis. The proposal would accommodate ROTs on days when they are not able to be present on the Amex's physical trading floor. For example, rather than calling in sick to work and thereby relinquishing the ability to quote and submit orders altogether, a ROT would be able to stream quotes and submit orders from away from the Amex's physical trading floor.⁴

⁴ A ROT would be able to establish connectivity via the Internet through its clearing firm.

The proposal would allow ROTs to quote and place orders remotely (i.e., from off the trading floor) on a temporary basis for a maximum of 20 days throughout the calendar year.⁵ For purposes of a ROT's “in-person” requirement, as set forth in Amex Rules 958—ANTE (g) and 958—ANTE (h), any transactions that occur through this limited remote quoting program will be deemed to be “on the floor.” A ROT must notify the Amex's Division of Regulation and Compliance immediately following the day or days when he or she chooses to submit quotes and orders from off the Amex's trading floor.

⁵ Quoting and submitting orders for one hour will qualify as one entire day.

The Amex will employ the same surveillance procedures that are currently used for ROTs quoting from on the floor. Furthermore, the Amex notes that there is an independent way to monitor when a ROT is off the floor because all members are required to scan in. The Amex represents that it will be able to monitor for compliance with the Amex's trading rules, as well as the federal securities laws and the rules and regulations promulgated thereunder.

2. Statutory Basis

The Amex believes that the proposed rule change is consistent with Section 6(b) of the Act,⁶ in general, and furthers the objectives of Section 6(b)(5) of the Act,⁷ in particular, in that it is designed to prevent fraudulent and manipulative acts and practices, to promote just and equitable principles of trade, to foster cooperation and coordination with persons engaged in facilitating transactions in securities, and to remove impediments to and perfect the mechanism of a free and open market and a national market system.

⁶ 15 U.S.C. 78f(b).

⁷ 15 U.S.C. 78f(b)(5).

B. Self-Regulatory Organization's Statement on Burden on Competition

The Amex does not believe that the proposed rule change will impose any burden on competition that is not necessary or appropriate in furtherance of the purposes of the Act.

C. Self-Regulatory Organization's Statement on Comments on the Proposed Rule Change Received From Members, Participants or Others

No written comments were solicited or received with respect to the proposed rule change.

III. Date of Effectiveness of the Proposed Rule Change and Timing for Commission Action

Within 35 days of the date of publication of this notice in the Federal Register or within such longer period (i) as the Commission may designate up to 90 days of such date if it finds such longer period to be appropriate and publishes its reasons for so finding or (ii) as to which the Exchange consents, the Commission will:

(A) By order approve such proposed rule change, or

(B) Institute proceedings to determine whether the proposed rule change should be disapproved.

IV. Solicitation of Comments

Interested persons are invited to submit written data, views and arguments concerning the foregoing, including whether the proposed rule change is consistent with the Act. Comments may be submitted by any of the following methods:

Electronic Comments

• Use the Commission's Internet comment form at (http://www.sec.gov/rules/sro.shtml); or

• Send an e-mail to rulecomments@sec.gov. Please include File Number SR-Amex-2007-25 on the subject line.

Paper Comments

• Send paper comments in triplicate to Nancy M. Morris, Secretary, Securities and Exchange Commission, 100 F Street, NE., Washington, DC 20549-1090.

All submissions should refer to File Number SR-Amex-2007-25. This file number should be included on the subject line if e-mail is used. To help the Commission process and review your comments more efficiently, please use only one method. The Commission will post all comments on the Commission's Internet Web site at http://www.sec.gov/rules/sro.shtml. Copies of the submission, all subsequent amendments, all written statements with respect to the proposed rule change that are filed with the Commission, and all written communications relating to the proposed rule change between the Commission and any person, other than those that may be withheld from the public in accordance with the provisions of 5 U.S.C. 552, will be available for inspection and copying in the Commission's Public Reference Room, 100 F Street, NE., Washington, DC 20549, on official business days between the hours of 10 a.m. and 3 p.m. Copies of such filing also will be available for inspection and copying at the principal office of the Exchange. All comments received will be posted without change; the Commission does not edit personal identifying information from submissions. You should submit only information that you wish to make available publicly. All submissions should refer to File Number SR-Amex-2007-25 and should be submitted on or before January 18, 2008.

For the Commission, by the Division of Trading and Markets, pursuant to delegated authority.⁸
⁸ 17 CFR 200.30-3(a)(12).
Florence E. Harmon,
Deputy Secretary.

[FR Doc. E7-25197 Filed 12-27-07; 8:45 am]

BILLING CODE 8011-01-P